DEPARTMENT OF AGRICULTURE

Forest Service

Notice of New Fee Site

AGENCY: Forest Service, USDA.

ACTION: Notice of new fee site.

SUMMARY: The Monongahela National Forest is proposing to charge a $75 fee for the overnight rental of Hopkins Mountain Fireman's Cabin. This cabin has not been available for recreation use prior to this date. Rental of another cabin on the Monongahela National Forest has shown that people appreciate and enjoy the availability of historic rental cabins. Funds from the rental will be used for the continued operation and maintenance of Hopkins Mountain Fireman's Cabin. This fee is only proposed and a final determination will be made upon further analysis and public comment.

DATES: Comments on the proposal will be accepted through July 31, 2017. Fees for the Hopkins Mountain Fireman's Cabin will go into effect spring of 2018 pending a recommendation from the Eastern Region Recreation Resource Advisory Committee.

ADDRESSES: Forest Supervisor, Monongahela National Forest, 200 Sycamore Street, Elkins, WV 26241.

FOR FURTHER INFORMATION CONTACT: Matthew Edwards, South Zone Recreation Manager, 304-799-4334. Information about the proposed fee can also be found on the Monongahela National Forest Web site at: https://www.fs.usda.gov/mnf.

SUPPLEMENTARY INFORMATION: The Federal Recreation Lands Enhancement Act (Title VII, Pub. L. 108-447) directed the Secretary of Agriculture to publish a six month advance notice in the Federal Register whenever new recreation fee areas are established. Prior to these fees going into effect, the Monongahela National Forest will present this proposal to the Eastern Region Recreation Resource Advisory Committee. The Federal Lands Recreation Enhancement Act requires a recommendation from the Eastern Region Recreation Resource Advisory Committee prior to a decision and implementation.

This cabin sleeps four and includes one set of bunk beds, a fold-out bed, tables, chairs, electric lights, and heat. A campsite, for up to eight people, with a picnic table and campfire ring, is also included with the cabin rental.

The Monongahela National Forest currently has one other cabin, often fully booked throughout the rental season, available for rent. A business analysis of Hopkins Mountain Fireman's Cabin has shown that people desire having this sort of recreation experience on the Monongahela National Forest. A market analysis indicates that the $75 per night fee is both reasonable and acceptable for this sort of unique recreation experience.

People wanting to rent Hopkins Mountain Fireman's Cabin will need to do so through the National Recreation Reservation Service, at www.recreation.gov or by calling 1-877-444-6777. The National Recreation Reservation Service charges a $9 fee for online reservations and a $10 fee for telephone reservations.

Dated: April 12, 2017.
Glenn P. Casamassa,
Associate Deputy Chief, National Forest System.

[FR Doc. 2017-10941 Filed 5-25-17; 8:45 am]

BILLING CODE 3411-15-P